FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than November 19, 2001.

A. Federal Reserve Bank of San Francisco (Maria Villanueva, Consumer Regulation Group) 101 Market Street, San Francisco, California 94105-1579:

1. Wells Fargo & Company, San Francisco, California; to acquire 100 percent of the voting shares of Texas Financial Bancorporation, Inc., Minneapolis, Minnesota; and thereby indirectly acquire voting shares of Marquette Bank Monmouth, Monmouth, Illinois; The Bank of Santa Fe, Santa Fe, New Mexico; Delaware Financial, Inc., Wilmington, Delaware; First National Bank of Texas, Decatur, Texas; First State Bank of Texas, Denton, Texas; Marquette Bank, N.A., Rogers, Minnesota; Marquette Capital Bank, N.A., Wayzata, Minnesota; The First National Bank and Trust Company of Baraboo, Baraboo, Wisconsin; Meridian Capital Bank, N.A., Milwaukee, Wisconsin; and Marquette Bank Morrison, Morrison, Illinois.

In connection with this application, Applicant also has applied to acquire Marquette Financial Group, Inc., Minneapolis, Minnesota, and thereby engage in securities brokerage and investment advisory activities, pursuant to § 225.28(b)(6) and (7) of Regulation Y.

Board of Governors of the Federal Reserve System, October 19, 2001.
Jennifer J. Johnson,
Secretary of the Board.

[FR Doc. 01-26863 Filed 10-24-01; 8:45 am]

BILLING CODE 6210-01-S